CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Process Evaluation of the Social Innovation Fund (SIF) Pay for Success (PFS) Program for review and approval in accordance with the Paperwork Reduction Act of 1995, Public Law 104-13, (44 U.S.C. chapter 35). Copies of this ICR, with applicable supporting documentation, may be obtained by calling the Corporation for National and Community Service, Lily Zandniapour, at 202-606-6939 or email to LZandniapour@cns.gov. Individuals who use a telecommunications device for the deaf (TTY-TDD) may call 1-800-833-3722 between 8:00 a.m. and 8:00 p.m. Eastern Time, Monday through Friday.

DATES: Comments may be submitted, identified by the title of the information collection activity, within April 11, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 11, 2015, Volume 80, No. 238 FR, 76848-76849. This comment period ended February 9, 2016. No comments were received regarding this Notice.

Description: CNCS has contracted with Abt Associates to support CNCS's Office of Research and Evaluation to implement a process evaluation of the Social Innovation Fund (SIF) Pay for Success (PFS) Program. The major data collection activities to be undertaken subject to this notice will include two surveys: (1) Grantee Survey, and (2) Subrecipient/Service Recipient Survey. Survey information will be collected from current and future SIF PFS grantees and their subrecipients/service recipients through an online survey program. The purpose of the Grantee Survey is to better understand grantees' program structure, practices in providing technical assistance and deal structuring activities. The Subrecipient/Service Recipient Survey will collect data on activities, capacity, and perspectives and experiences of subrecipients/service recipients receiving assistance from the grantees. Note that since the 60-day Notice was published, the word “grant” was dropped from the title of the study based on the revised program name (SIF PFS program) and the organizations previously referred to as “subgrantees” are now referred to as “subrecipients/service recipients” to reflect the revised language that CNCS is using to refer to these organizations.

Type of Review: Renewal.

Agency: Corporation for National and Community Service.

Title: Process Evaluation of the Social Innovation Fund (SIF) Pay for Success (PFS) Program.

OMB Number: TBD.

Agency Number: None.

Affected Public: Current and future CNCS-funded SIF PFS grantees (mostly nonprofit organizations) and current and future community organizations and state or local government agencies (referred to as subrecipients/service recipients).

Total Respondents: Approximately 260. This includes approximately 18 respondents to the Grantee Survey and approximately 242 respondents to the Subrecipient/Service Recipient Survey. The exact number of respondents will depend on the number of new grantees funded by the SIF PFS program in 2016 and 2017 and the number of subrecipients/service recipients that each grantee selects to work with each year.

Frequency: Once per year. Each respondent will complete the survey annually for one to three years depending upon the timing and duration of their participation in the program.

Average Time per Response: 20 minutes per year.

Estimated Total Burden Hours: 151 hours.

Total Burden Cost (capital/startup): None.

Total Burden Cost (operating/maintenance): None.

Dated: March 7, 2016.
Mary Hyde,
Director, Research and Evaluation.

[FR Doc. 2016-05507 Filed 3-10-16; 8:45 am]

BILLING CODE 6050-28-P